DEPARTMENT OF COMMERCE

International Trade Administration

[A-351-824]

Silicomanganese From Brazil: Final Results of Antidumping Duty Administrative Review

AGENCY: Import Administration, International Trade Administration, Department of Commerce.

ACTION: Notice of final results of antidumping duty administrative review.

SUMMARY: On October 27, 2003, the Department of Commerce published the preliminary results of the administrative review of the antidumping duty order on silicomanganese from Brazil. The review covers exports of this merchandise to the United States by the collapsed parties, Sibra Eletro-Siderurgica Brasileira S.A. (SIBRA), Companhia Paulista de Ferro-Ligas (CPFL), and Urucum Mineracao (Urucum) (collectively “SIBRA/CPFL/Urucum”), for the period December 1, 2001, through November 30, 2002. We gave interested parties an opportunity to comment on the preliminary results. Based on our analysis of the comments received, we have revised our calculations for these final results. The final weighted-average margin is listed below in the “Final Results of Review” section of this notice.

EFFECTIVE DATE: March 24, 2004.

FOR FURTHER INFORMATION CONTACT: Brian Ellman at (202) 482-4852 or Katja Kravetsky at (202) 482-0108, Office of AD/CVD Enforcement 3, Import Administration, International Trade Administration, U.S. Department of Commerce, 14th Street and Constitution Avenue, N.W., Washington, D.C. 20230.

SUPPLEMENTARY INFORMATION:

Background

On October 27, 2003, we published the preliminary results of review (see Silicomanganese from Brazil: Preliminary Results of Antidumping Administrative Review, 68 FR 61185). We invited parties to comment on the preliminary results of the review. On November 6, 2003, we received a request for a public hearing from Eramer Marietta (the petitioner). On December 5, 2003, the petitioner and SIBRA/CPFL filed case briefs. On December 12, 2003, both parties filed rebuttal briefs. The hearing took place on December 17, 2003. On February 23, 2004, the Department of Commerce (the Department) postponed the final results of this review until no later than March 16, 2004. See Silicomanganese From Brazil: Extension of Time Limit for Final Results of Antidumping Duty Administrative Review, 69 FR 9587 (March 1, 2004).

The Department has conducted this review in accordance with section 751(a) of the Tariff Act of 1930 (the Act).

Scope of Review

The merchandise covered by this review is silicomanganese. Silicomanganese, which is sometimes called ferrosilicon manganese, is a ferroalloy composed principally of manganese, silicon and iron, and normally contains much smaller proportions of minor elements, such as carbon, phosphorous and sulfur. Silicomanganese generally contains by weight not less than 4 percent iron, more than 30 percent manganese, more than 8 percent silicon, and not more than 3 percent phosphorous. All compositions, forms, and sizes of silicomanganese are included within the scope of this review, including silicomanganese slag, fines, and briquettes. Silicomanganese is used primarily in steel production as a source of both silicon and manganese.

Silicomanganese is currently classifiable under subheading 7202.30.0000 of the Harmonized Tariff Schedule of the United States (HTSUS). Some silicomanganese may also currently be classifiable under HTSUS subheading 7202.99.5040. This scope covers all silicomanganese, regardless of its tariff classification. Although the HTSUS subheadings are provided for convenience and customs purposes, the written description of the scope remains dispositive.

Analysis of Comments Received

All issues raised in the case and rebuttal briefs by parties to this administrative review are addressed in the “Issues and Decision Memorandum” from Susan Kuhbach, Acting Deputy Assistant Secretary, to Jeffrey May, Acting Assistant Secretary for Import Administration, dated March 16, 2004 (Decision Memorandum), which is hereby adopted by this notice. Attached to this notice as an appendix is a list of the issues that parties have raised and to which we have responded in the Decision Memorandum. Parties can find a complete discussion of all issues raised in this review and the corresponding recommendations in this public memorandum, which is on file in the Central Records Unit, Room B-099 of the main Department of Commerce building. In addition, a complete version of the Decision Memorandum can be accessed directly on the Internet at http://ia.ita.doc.gov/frn. The paper copy and electronic version of the Decision Memorandum are identical in content.

Sales Below Cost in the Home Market

As discussed in detail in the preliminary results, the Department disregarded home-market below-cost sales that failed the cost test.

Changes Since the Preliminary Results

Based on our analysis of the comments received, we have made certain changes in the margin calculation. See “Cost of Production and Constructed Value Calculation Adjustments for the Final Results” from Robert Greger to Neal Halper, Director, Office of Accounting and “Final Results Analysis Memorandum of SIBRA/CPFL/Urucum” from Katja Kravetsky and Brian Ellman to the File, both dated March 16, 2004.

Final Results of Review

As a result of our review, we determine that the following weighted-average margin exists for the collapsed parties SIBRA, CPFL, and Urucum for the period December 1, 2001, through November 30, 2002:

Manufacturer/exporter | Weighted-average percentage margin
SIBRA/CPFL/Urucum | 13.02

Duty Assessment and Cash Deposit Requirements

The Department will determine, and U.S. Customs and Border Protection (CBP) shall assess, antidumping duties on all appropriate entries. In accordance with 19 CFR 351.212(b)(1), we have calculated an importer-specific assessment rate. The Department will issue appropriate assessment instructions directly to CBP within 15 days of publication of these final results of review. Further, the following deposit requirements will be effective upon publication of the final results of this administrative review for all shipments of silicomanganese from Brazil entered, or withdrawn from warehouse, for consumption on or after the publication date of the final results, as provided by section 751(a)(2)(C) of the Act: (1) The cash deposit rate for SIBRA/CPFL/Urucum will 13.02 percent; (2) for merchandise exported by producers or exporters that were previously reviewed or investigated, the cash deposit will continue to be the most recent rate published in the final determination or final results for which the producer or exporter received an individual rate; (3) if the exporter is not a firm covered in this review, a prior review, or the original less-than-fair-value (LTFV) investigation, but the manufacturer is, the cash deposit rate will be the rate established for the most recent period for the manufacturer of the subject merchandise; and (4) if neither the exporter nor the manufacturer is a firm covered in this or any previous review, the cash deposit rate shall be 17.60 percent, the all-others rate established in the LTFV investigation. See Notice of Final Determination of Sales at Less Than Fair Value: Silicomanganese from Brazil, 59 FR 55432, (November 7, 1994). These deposit requirements shall remain in effect until publication of the final results of the next administrative review.

Notification of Interested Parties

This notice serves as a final reminder to importers of their responsibility under 19 CFR 351.402(f) to file a certificate regarding the reimbursement of antidumping duties prior to liquidation of the relevant entries during the review period. Failure to comply with this requirement could result in the Secretary's presumption that reimbursement of antidumping duties occurred and the subsequent assessment of double antidumping duties.

This notice also serves as a reminder to parties subject to administrative protective orders (APO) of their responsibility concerning the disposition of proprietary information disclosed under APO as explained in the administrative protective order itself. Timely written notification of the return/destruction of APO materials or conversion to judicial protective order is hereby requested. Failure to comply with the regulations and terms of an APO is a sanctionable violation.

These final results of administrative review and notice are issued and published in accordance with sections 751(a)(1) and 777(i)(1) of the Act.

Dated: March 16, 2004.
Jeffrey May,
Acting Assistant Secretary for Import Administration.

APPENDIX Issues in the Decision Memorandum

Comment 1. Model Matching

Comment 2. Affiliation With Home-Market Customers

Comment 3. Merchandise

Comment 4. High-Inflation Methodology

Comment 5. Replacement Costs

Comment 6. By-Product Inputs

Comment 7. Raw Material Inputs from Affiliates

Comment 8. Freight Services Provided by an Affiliate

Comment 9. Depreciation

Comment 10. Income Offsets to G&A

Comment 11. Weighted-Average G&A Ratio Calculation

Comment 12. Interest Expense

Comment 13. Interest Income

Comment 14. Net Foreign Exchange Losses

Comment 15. ICMS/IPI Taxes

Comment 16. PIS/COFINS Taxes

Comment 17. Additional Bill-of-Lading Fee

[FR Doc. 04-6611 Filed 3-23-04; 8:45 am]

BILLING CODE 3510-DS-S